DEPARTMENT OF COMMERCE

International Trade Administration

[A-201-810]

Certain Cut-to-Length Carbon Steel Plate From Mexico: Extension of Time Limit for Preliminary Results of Countervailing Duty Administrative Review

AGENCY: Import Administration, International Trade Administration, Department of Commerce.

EFFECTIVE DATE: April 11, 2000.

FOR FURTHER INFORMATION CONTACT: Eric Greynolds or Michael Grossman, at (202) 482-6071 or (202) 482-3146, respectively, AD/CVD Enforcement, Office VI, Group II, Import Administration, International Trade Administration, U.S. Department of Commerce, 14th Street and Constitution Ave, NW, Washington, DC 20230.

Time Limits

Statutory Time Limits

Section 751(a)(3)(A) of the Tariff Act of 1930, as amended (the Act), requires the Department of Commerce (“the Department”) to make a preliminary determination within 245 days after the last day of the anniversary month of an order/finding for which a review is requested. However, if it is not practicable to complete the preliminary results of review within this time period, section 751(a)(3)(A) of the Act allows the Department to extend the time limit for the preliminary determination to a maximum of 365 days.

Background

On October 1, 1999, the Department published a notice of initiation of administrative review of the countervailing duty order on certain cut-to-length carbon steel plate from Mexico, covering the period January 1, 1998 through December 31, 1998 (64 FR 53318). The preliminary results are currently due no later than May 2, 2000.

Extension of Time Limit for Preliminary Results of Review

We determine that it is not practicable to complete the preliminary results of this review within the original time limit. Therefore the Department is extending the time limit for completion of the preliminary results until no later than August 30, 2000. See Decision Memorandum from John Brinkmann, Acting Director, AD/CVD Enforcement, Office VI, to Holly Kuga, Acting Deputy Assistant Secretary for Import Administration, Group II, which is on file in the Central Records Unit, Room B-099 of the main Commerce building. We intend to issue the final results no later than 120 days after the publication of the preliminary results notice.

This extension is in accordance with section 751(a)(3)(A) of the Act.

Dated: April 5, 2000.
Holly Kuga,
Acting Deputy Assistant Secretary for Import Administration, Group II.

[FR Doc. 00-8985 Filed 4-10-00; 8:45 am]

BILLING CODE 3510-DS-P